DEPARTMENT OF TRANSPORTATION

Federal Aviation Administration

14 CFR Part 91

[Docket No. FAA-2001-10047; Amdt. No. 91-274]

RIN 2120-AH06

Regulation of Fractional Aircraft Ownership Programs and On-Demand Operations; Correction

AGENCY: Federal Aviation Administration (FAA), DOT.

ACTION: Final rule; correction.

SUMMARY: This document makes a correction to the final rule published in the Federal Register on September 17, 2003 (68 FR 54520), which issued regulations governing operations of aircraft in fractional ownership programs. This correction is necessary to correct an error in the final rule.

DATES: Effective Date: Effective on December 14, 2004.

FOR FURTHER INFORMATION CONTACT: Katherine Hakala Perfetti, Flight Standards Service (AFS-200), Federal Aviation Administration, 800 Independence Avenue, SW., Washington, DC 20591, telephone (202) 267-3760, e-mail: katherine.perfetti@faa.gov.

SUPPLEMENTARY INFORMATION:

Background

The final rule was published on September 17, 2003 and had an effective date of November 17, 2003. One section of the rule cites a compliance date that is 15 months after the publication date of the rule. The date was intended to be 15 months after the effective date. This document corrects that date.

List of Subjects in 14 CFR Part 91

Aircraft, Airworthiness directives and standards, Aviation safety, Safety.

The Correcting Amendment

Accordingly, 14 CFR part 91 is corrected by making the following amendment:

PART 91—GENERAL OPERATION AND FLIGHT RULES

Subpart K—Fractional Ownership Operations

1. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 stat. 1180).

§ 91.1002 [corrected]

2. Amend § 91.1002 by removing “October 17, 2003” and adding, in its place “November 17, 2003” and removing “December 17, 2004” and adding, in its place “February 17, 2005”.

Issued in Washington, DC on December 7, 2004.
Brenda D. Courtney,
Acting Director, Office of Rulemaking.

[FR Doc. 04-27356 Filed 12-13-04; 8:45 am]

BILLING CODE 4910-13-P